DEPARTMENT OF DEFENSE

Office of the Secretary

Notice of the Defense Acquisition Performance Assessment Project—Open/Closed Meeting—Correction

AGENCY: Department of Defense.

ACTION: Notice; correction.

SUMMARY: The Defense Acquisition Performance Assessment Project published an Open Meeting notice in the Federal Register of June 23, 2005. Notice is amended to reflect the addition of a closed meeting session following the morning's 9 a.m.-12 p.m. open meeting session on July 15, 2005. The closed session will be held from 1 p.m.-5 p.m. In accordance with Federal Advisory Committee Act of 1972, as amended, it has been determined that the Project's meeting in the afternoon concerns matters deemed confidential and/or proprietary in nature pursuant to 5 U.S.C. 552b(c)(4) and will be closed to the public.

FOR FURTHER INFORMATION CONTACT: Lt Col Rene Bergeron, (703) 697-1361, rene.bergeron@pentagon.af.mil.

Correction

In the Federal Register of June 23, 2005, page 36377, FR Doc. 05-12424, on page 36377, in the middle column, correct the DATES caption to read:

DATES: July 15, 2005 / 9 a.m.-12 p.m. (Open); 1 p.m.-5 p.m. (Closed).

Dated: June 30, 2005.
Jeannette Owings-Ballard,
OSD Federal Register Liaison Officer, Department of Defense.

[FR Doc. 05-13334 Filed 7-6-05; 8:45 am]

BILLING CODE 5001-06-P